DEPARTMENT OF TRANSPORTATION

Federal Motor Carrier Safety Administration

[Docket No. FMCSA-2016-0377]

Qualification of Drivers; Exemption Applications; Vision

AGENCY: Federal Motor Carrier Safety Administration (FMCSA), DOT.

ACTION: Notice of applications for exemptions; request for comments.

SUMMARY: FMCSA announces receipt of applications from 17 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before April 7, 2017. All comments will be investigated by FMCSA. The exemptions will be issued the day after the comment period closes.

ADDRESSES: You may submit comments bearing the Federal Docket Management System (FDMS) Docket No. FMCSA-2016-0377 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., e.t., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., e.t., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 17 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Chad C. Burnett

Mr. Burnett, 41, has had amblyopia in his left eye since childhood. The visual acuity in his right eye is 20/20, and in his left eye, 20/50. Following an examination in 2016, his optometrist stated, “After careful assessment of patient Chad Burnett for a complete eye vision and health exam on 5-3-2016, I feel Chad would be visually qualified to obtain his CMV license for driving.” Mr. Burnett reported that he has driven straight trucks for 12 years, accumulating 720,000 miles. He holds a Class A CDL from Illinois. His driving record for the last 3 years shows no crashes and no convictions for moving violations in a CMV.

Lesco R. Chubb

Mr. Chubb, 68, has had a central retinal vein occlusion in his left eye since 2006. The visual acuity in his right eye is 20/20, and in his left eye, hand motion. Following an examination in 2016, his optometrist stated that Mr. Chubb does have sufficient vision to perform the driving tasks required to operate a CMV. Mr. Chubb reported that he has driven tractor-trailer combinations for 28 years, accumulating 3.5 million miles. He holds a Class A CDL from Georgia. His driving record for the last 3 years shows no crashes and no convictions for moving violations in a CMV.

Stephen M. Currie

Mr. Currie, 60, has a prosthetic right eye due to a traumatic incident in 1989. The visual acuity in his right eye is no light perception, and in his left eye, 20/20. Following an examination in 2016, his optometrist stated, “Mr. Currie has operated a commercial vehicle with his prosthetic right eye for years. Nothing has changed in his vision or peripheral vision to indicate that he cannot continue to operate in the same capacity he has been operating for the past several years.” Mr. Currie reported that he has driven straight trucks for 26 years, accumulating 1.09 million miles. He holds a Class B CDL from Texas. His driving record for the last 3 years shows no crashes and no convictions for moving violations in a CMV.

Thomas C. Fitzpatrick

Mr. Fitzpatrick, 72, has had amblyopia in his right eye since birth. The visual acuity in his right eye is 20/50, and in his left eye, 20/25. Following an examination in 2016, his optometrist stated, “Mr. Fitzpatrick is able to recognize colors and has no visual deficiencies that would be any hazard to commercial driving.” Mr. Fitzpatrick reported that he has driven straight trucks for 41 years, accumulating 143,500 miles, and tractor-trailer combinations for 46 years, accumulating 253,000 miles. He holds a Class A CDL from Maine. His driving record for the last 3 years shows no crashes and no convictions for moving violations in a CMV.

Robert D. Hattabaugh

Mr. Hattabaugh, 53, has complete loss of vision in his right eye due to a traumatic incident in 2006. The visual acuity in his right eye is no light perception, and in his left eye, 20/20. Following an examination in 2016, his ophthalmologist stated that Mr. Hattabaugh does have sufficient vision to perform the driving tasks required to operate a CMV. Mr. Hattabaugh reported that he has driven straight trucks for 30 years, accumulating 90,000 miles. He holds a Class A CDL from Arkansas. His driving record for the last 3 years shows no crashes and no convictions for moving violations in a CMV.

Wade R. Higgins

Mr. Higgins, 62, has complete loss of vision in his left eye due to a traumatic incident in childhood. The visual acuity in his right eye is 20/20, and in his left eye, no light perception. Following an examination in 2016, his ophthalmologist stated, “Patient has sufficient vision to perform driving tasks of commercial vehicle [sic].” Mr. Higgins reported that he has driven straight trucks for 5 years, accumulating 500,000 miles. He holds an operator's license from North Carolina. His driving record for the last 3 years shows one crash and no convictions for moving violations in a CMV.

Daniel L. Holman

Mr. Holman, 46, has complete loss of vision in his right eye due to a traumatic incident in 1997. The visual acuity in his right eye is no light perception, and in his left eye, 20/15. Following an examination in 2016, his ophthalmologist stated, “In my medical opinion Mr. Holman has sufficient vision to perform the driving tasks required to operate a commercial vehicle.” Mr. Holman reported that he has driven straight trucks for 9 years, accumulating 180,000 miles. He holds a Class B CDL from Utah. His driving record for the last 3 years shows no crashes and no convictions for moving violations in a CMV.

Don N. Hood

Mr. Hood, 64, has had a corneal scar in his right eye since 1997. The visual acuity in his right eye is 20/70, and in his left eye, 20/20. Following an examination in 2016, his optometrist stated, “In my medical opinion Mr [sic] hood has more than adequate VA [sic] to operate [sic] commercial vehicle.” Mr. Hood reported that he has driven straight trucks for 27 years, accumulating 280,800 miles, tractor-trailer combinations for 20 years, accumulating 100,000 miles, and buses for 1 year, accumulating 60 miles. He holds a Class A CDL from Arkansas. His driving record for the last 3 years shows no crashes and no convictions for moving violations in a CMV.

James S. Hummel

Mr. Hummel, 66, has phthisis bulbi in his right eye due to a traumatic incident in childhood. The visual acuity in his right eye is no light perception, and in his left eye, 20/20. Following an examination in 2016, his optometrist stated, “In summary, he has 20/20 uncorrected and corrected vision in his left eye and no vision in the right eye, a well-preserved visual field, and normal color testing that qualifies him to drive a commercial vehicle.” Mr. Hummel reported that he has driven straight trucks for 41 years, accumulating 410,000 miles, and tractor-trailer combinations for 3 years, accumulating 6,000 miles. He holds a Class AM CDL from Pennsylvania. His driving record for the last 3 years shows no crashes and no convictions for moving violations in a CMV.

Robert R. Martin

Mr. Martin, 63, has a cataract in his right eye since birth. The visual acuity in his right eye is count fingers, and in his left eye, 20/20. Following an examination in 2016, his ophthalmologist stated, “Mr. Martin has sufficient vision to perform the driving tasks required to operate a commercial vehicle.” Mr. Martin reported that he has driven tractor-trailer combinations for 3 years, accumulating 279,000 miles. He holds a Class AM CDL from Virginia. His driving record for the last 3 years shows one crash and no convictions for moving violations in a CMV.

James C. Montgomery

Mr. Montgomery, 51, has a retinal scar in his right eye due to a traumatic incident in childhood. The visual acuity in his right eye is 20/150, and in his left eye, 20/15. Following an examination in 2016, his optometrist stated, “From a visual standpoint, my medical opinion is that that [sic] he has the ability to sufficiently perform the driving tasks required to operate a commercial vehicle.” Mr. Montgomery reported that he has driven straight trucks for 8 years, accumulating 5,600 miles, and tractor-trailer combinations for 2 years, accumulating 16,800. He holds a Class A CDL from Tennessee. His driving record for the last 3 years shows no crashes and no convictions for moving violations in a CMV.

Huber N. Pena Ortega

Mr. Pena Ortega, 32, has had amblyopia in his right eye since birth. The visual acuity in his right eye is 20/200, and in his left eye, 20/20. Following an examination in 2016, his optometrist stated, “It is my medical opinion that Huber Ortega has sufficient vision to perform the driving tasks required to operate a commercial vehicle.” Mr. Pena Ortega reported that he has driven straight trucks for 10 years, accumulating 200,000 miles, and tractor-trailer combinations for 5 years, accumulating 110,000 miles. He holds a Class A CDL from Colorado. His driving record for the last 3 years shows no crashes and no convictions for moving violations in a CMV.

Garry W. Perkins

Mr. Perkins, 58, has had amblyopia in his left eye since birth. The visual acuity in his right eye is 20/20, and in his left eye, 20/200. Following an examination in 2017, his optometrist stated, “It is in my professional opinion that due to the non-progressive congenital condition of refractive amblyopia in Mr. Perkins left eye and overall visual field status and corrected vision OD that there are no visual concerns for Mr. Perkins to operate a commercial vehicle.” Mr. Perkins reported that he has driven straight trucks for 30 years, accumulating 300,000 miles. He holds an operator's license from New Hampshire. His driving record for the last 3 years shows no crashes and no convictions for moving violations in a CMV.

Charles M. Reese

Mr. Reese, 31, has had amblyopia in his right eye since birth. The visual acuity in his right eye is 20/400, and in his left eye, 20/20. Following an examination in 2016, his optometrist stated, “I do believe that Mr. Reese has sufficient vision to drive and operate a commercial vehicle.” Mr. Reese reported that he has driven straight trucks for 5 years, accumulating 100,000 miles, and tractor-trailer combinations for 6 years, accumulating 150,000 miles. He holds a Class A CDL from Utah. His driving record for the last 3 years shows no crashes and no convictions for moving violations in a CMV.

Wilbur Robinson, Jr.

Mr. Robinson, 60, has complete loss of vision in his right eye due to a traumatic incident in 1975. The visual acuity in his right eye is no light perception, and in his left eye, 20/20. Following an examination in 2016, his optometrist stated, “Patient has sufficient vision to drive commercial truck.” Mr. Robinson reported that he has driven straight trucks for 10 years, accumulating 180,000 miles. He holds a Class B CDL from New Jersey. His driving record for the last 3 years shows no crashes and no convictions for moving violations in a CMV.

Thomas R. Test

Mr. Test, 38, has had complete loss of vision in his right eye due to a traumatic incident childhood. The visual acuity in his right eye is no light perception, and in his left eye, 20/20. Following an examination in 2016, his optometrist stated, “In my medical opinion, Mr. Thomas R. Test has sufficient vision to perform the driving tasks required to operate a commercial vehicle.” Mr. Test reported that he has driven straight trucks for 17 years, accumulating 2.6 million miles. He holds a Class AM CDL from Virginia. His driving record for the last 3 years shows no crashes and one conviction for speeding in a CMV; he exceeded the speed limit by 10 MPH.

Steven L. Tiefenthaler

Mr. Tiefenthaler, 56, has a toxoplasmosis scar in his right eye since childhood. The visual acuity in his right eye is 20/70, and in his left eye, 20/20. Following an examination in 2016, his ophthalmologist stated, “I certify that, in my medical opinion, this patient has sufficient vision to operate a commercial motor vehicle.” Mr. Tiefenthaler reported that he has driven straight trucks for 10 years, accumulating 80,000 miles, tractor-trailer combinations for 25 years, accumulating 3.25 million miles, and buses for 2 years, accumulating 1,600 miles. He holds a Class A CDL from Iowa. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0377 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0377 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: February 28, 2017.
Larry W. Minor,
Associate Administrator for Policy.

[FR Doc. 2017-04525 Filed 3-7-17; 8:45 am]

BILLING CODE 4910-EX-P